FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201325-001.

Agreement Name: Sealand/Network Space Charter Agreement.

Parties: Maersk A/S; Network Shipping, Ltd.

Filing Party: Wayne Rohde; Cozen O'Connor.

Synopsis: The Amendment changes the name of the agreement and deletes Panama, El Salvador, Nicaragua and Mexico from the geographic scope of the agreement. The Amendment changes the authority that Maersk had to charter space to Network to now authorizing Network to charter space to Maersk. The Amendment deletes obsolete language from the agreement and adds new language, revises the notice for termination and updates the persons to whom the notice is to be provided. The Amendment also restates the Agreement.

Proposed Effective Date: 1/26/2024.

Location: https://www2.fmc.gov/FMC.Agreements.Web/Public/AgreementHistory/25450.

Dated: December 15, 2023.
Carl Savoy,
Federal Register Alternate Liaison Officer.

[FR Doc. 2023-27959 Filed 12-19-23; 8:45 am]

BILLING CODE 6730-02-P